DEPARTMENT OF TRANSPORTATION

Federal Aviation Administration

Eighth Meeting—RTCA Special Committee 220: Automatic Flight Guidance and Control

AGENCY: Federal Aviation Administration (FAA), DOT.

ACTION: Notice of RTCA Special Committee 220: Automatic Flight Guidance and Control meeting.

SUMMARY: The FAA is issuing this notice to advise the public of a meeting of RTCA Special Committee 220: Automatic Flight Guidance and Control.

DATES: The meeting will be held October 12-14, 2010. October 12th and 13th from 9 a.m. to 5 p.m. and October 14th from 9 a.m. to 2 p.m.

ADDRESSES: The meeting will be held at the Wichita Airport Hilton, 2098 Airport Road, Wichita, Kansas, 67209-1941, USA. telephone (316) 945-5272, fax (316) 945-7620, e-mail: Julie.Hill@hilton.com.

FOR FURTHER INFORMATION CONTACT: (1) RTCA Secretariat, 1828 L Street, NW., Suite 805, Washington, DC, 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 220: Automatic Flight Guidance and Control meeting. The agenda will include:

• Welcome/Agenda Overview.

• Consider for Approval—New Document—Minimum Operational Performance Standards (MOPS) for Automatic Flight Guidance and Control Systems and Equipment, RTCA Paper No. 088-10/SC220-016.

• Continue Development of Installation Guidance White Papers.

• Wrap-up and Review of Action Items.

• Establish Dates, Location, Agenda for Next Meeting.

• Other Business.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 17, 2010.
Robert L. Bostiga,
RTCA Advisory Committee.

[FR Doc. 2010-24111 Filed 9-24-10; 8:45 am]

BILLING CODE 4910-13-P